DEPARTMENT OF COMMERCE

International Trade Administration

[A-552-801]

Certain Frozen Fish Fillets From the Socialist Republic of Vietnam: Final Results of the Fifth New Shipper Review

AGENCY: Import Administration, International Trade Administration, Department of Commerce.

SUMMARY: The Department of Commerce (“Department”) is conducting a new shipper review of the antidumping duty order on certain frozen fish fillets from the Socialist Republic of Vietnam (“Vietnam”). See Notice of Antidumping Duty Order: Certain Frozen Fish Fillets From the Socialist Republic of Vietnam, 68 FR 47909 (August 12, 2003) (“Order”). This new shipper review includes NTSF Seafoods Joint Stock Company (“NTSF”). Based upon our analysis of the comments and information received, we made changes to the dumping margin calculation for the final results. The final dumping margin is listed below in the section entitled “Final Results of the Review.”

DATES: Effective Date: July 7, 2010.

FOR FURTHER INFORMATION CONTACT: Javier Barrientos, AD/CVD Operations, Office 9, Import Administration, International Trade Administration, U.S. Department of Commerce, 14th Street and Constitution Avenue, NW., Washington, DC 20230; telephone: (202) 482-2243.

SUPPLEMENTARY INFORMATION:

Case History

On January 19, 2010, the Department issued the preliminary results of the fifth new shipper review for the period August 1, 2008, through January 31, 2009. See Certain Frozen Fish Fillets From the Socialist Republic of Vietnam: Preliminary Results of New Shipper Review, 75 FR 4350 (January 29, 2010) (“Preliminary Results”). On February 12, 2010, the Department tolled administrative deadlines, including the instant review, by one calendar week. See Tolling of Administrative Deadlines As a Result of the Government Closure during the Recent Snowstorm, dated February 12, 2010 (“Tolling Memo”).

On February 16, 2010, the Department extended the deadlines for submission of surrogate value data, surrogate value rebuttal comments, case and rebuttal briefs. See Memorandum to the File, from Javier Barrientos, Senior Case Analyst, Certain Frozen Fish Fillets from the Socialist Republic of Vietnam, dated February 16, 2010. On February 23, 2010, Petitioners submitted additional publicly available information with which to value the factors of production.

On March 4, 2010, the Department extended the deadlines for submission of case and rebuttal briefs. See Memorandum to the File, from Javier Barrientos, Senior Case Analyst, Certain Frozen Fish Fillets from the Socialist Republic of Vietnam, dated March 4, 2010. On March 12, 2010, Petitioners and NTSF submitted their respective case briefs. On March 17, 2010, Petitioners and NTSF submitted their respective rebuttal case briefs.

On April 26, 2010, the Department extended the deadline for the final results in the instant review by 30 days. See Certain Frozen Fish Fillets From the Socialist Republic of Vietnam: Extension of Time Limit for Final Results of the Fifth New Shipper Review, 75 FR 26199 (April 30, 2010). On May 19, 2010, the Department extended the deadline for the final results in the instant review by an additional 30 days. See Certain Frozen Fish Fillets From the Socialist Republic of Vietnam: Extension of Time Limit for Final Results of the Fifth New Shipper Review, 75 FR 30374 (May 25, 2010).

Scope of the Order

The product covered by the Order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).¹ The order covers all frozen fish fillets meeting the above specification, regardless of tariff classification. Although the HTSUS subheading is provided for convenience and customs purposes, our written description of the scope of the order is dispositive.

¹ Until July, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Analysis of Comments Received

All issues raised in the case and rebuttal briefs by parties to this proceeding and to which we have responded are listed in the Appendix to this notice and addressed in the Issues and Decision Memorandum (“Final Decision Memo”), which is hereby adopted by this notice. Parties can find a complete discussion of the issues raised in this new shipper review and the corresponding recommendations in this public memorandum, which is on file in the Central Records Unit (“CRU”), room 1117, of the main Department of Commerce building. In addition, a copy of the Final Decision Memo can be accessed directly on our Web site at http://ia.ita.doc.gov/. The paper copy and electronic version of the Final Decision Memo are identical in content.

Changes Since the Preliminary Results

Based on a review of the record as well as comments received from parties regarding our Preliminary Results, we have made revisions to the margin calculation for NTSF in the final results. For all changes to the calculations, see the Final Decision Memo and company specific analysis memoranda. For changes to the surrogate values see Memorandum to the File, through Alex Villanueva, Program Manager, AC/CVD Operations, Office 9, from Javier Barrientos, Senior Case Analyst, AD/CVD Operations, Office 9; Fifth Antidumping Duty New Shipper Review of Certain Frozen Fish Fillets from the Socialist Republic of Vietnam: Surrogate Values for the Final Results.

Final Results of the Review

The weighted-average dumping margins for the POR are as follows:

Certain Frozen Fish Fillets From Vietnam
Manufacturer/ exporter | Weighted-average margin
NTSF | 0.00

Assessment

The Department will determine, and U.S. Customs and Border Protection (“CBP”) shall assess, antidumping duties on all appropriate entries, pursuant to 19 CFR 351.212(b). We have calculated importer-specific duty assessment rates on a per-unit basis. Specifically, we divided the total dumping margins (calculated as the difference between normal value and export price or constructed export price) for each importer by the total quantity of subject merchandise sold to that importer during the POR to calculate a per-unit assessment amount. In this and any future review, we will direct CBP to assess importer-specific assessment rates based on the resulting per-unit (i.e., per-kilogram) rates by the weight in kilograms of each entry of the subject merchandise during the POR. The Department intends to issue appropriate assessment instructions directly to CBP 15 days after publication of the final results of this new shipper review.

Cash Deposit Requirements

The following cash deposit requirements will be effective upon publication of this final results of this new shipper review for all shipments of subject merchandise by NTSF, entered, or withdrawn from warehouse, for consumption on or after the publication date, as provided by section 751(a)(2)(C) of the Tariff Act of 1930, as amended (“Act”): (1) For subject merchandise produced and exported by NTSF, the cash deposit rate will be zero; (2) for subject merchandise exported by NTSF, but not manufactured by NTSF, the cash deposit rate will continue to be the Vietnam-wide rate of $2.11/Kilogram; and (3) for subject merchandise manufactured by NTSF, but exported by any party other than NTSF, the cash deposit rate will be the rate applicable to the exporter. These cash deposit requirements will remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination in accordance with sections 751(a)(2)(B) and 777(i) of the Act, and 19 CFR 351.214(h) and 351.221(b)(5).

Dated: June 27, 2010.
Paul Piquado,
Acting Deputy Assistant Secretary for Import Administration.

Appendix I—Decision Memorandum

Comment 1: Surrogate Country.

Comment 2: Surrogate Values.

A. Whole Live Fish.

B. Surrogate Financial Ratios.

Comment 3: Indirect Labor.

Comment 4: Factors of Production Denominator.

[FR Doc. 2010-16496 Filed 7-6-10; 8:45 am]

BILLING CODE 3510-DS-P